DEPARTMENT OF COMMERCE

National Oceanic and Atmospheric Administration

U.S. Coral Reef Task Force Public Meeting and Public Comment

AGENCY: National Ocean Service (NOAA), Department of Commerce.

ACTION: Notice of public meeting; Notice of public comment.

SUMMARY: Notice is hereby given of a public meeting of the U.S. Coral Reef Task Force. The meeting will be held in San Juan, Puerto Rico. This meeting, the 22nd biannual meeting of the U.S. Coral Reef Task Force, provides a forum for coordinated planning and action among Federal agencies, State and territorial governments, and nongovernmental partners. Please register in advance by visiting the Web site listed below. This meeting has time allotted for public comment. All public comment must be submitted in written format. A written summary of the meeting will be posted on the Web site within two months of its occurrence.

DATES: The meeting will be held Monday, November 2, on Tuesday, November 3, and Thursday, November 5, 2009. Workshops will be held in advance of the meeting on Friday, October 30, and Saturday, October 31. Registration is requested for all events associated with the meetings. Advance public comments can be submitted to the e-mail, fax, or mailing address listed below from Friday, October 2-Friday, October 16.

Location: The meeting will be held at the Caribe Hilton, 1 San Geronimo Street, San Juan, Puerto Rico 00901.

FOR FURTHER INFORMATION CONTACT: Steven Thur, NOAA U.S. Coral Reef Task Force Steering Committee Point of Contact, Coral Reef Conservation Program, 1305 East-West Highway, Silver Spring, Maryland 20910 (Phone: 301-713-3155, ext. 147, Fax: 301-713-4389, e-mail: Steve.Thur (noaa.gov, Sarah Bobbe, U.S. Coral Reef Task Force Department of the Interior liaison, 1849 C Street, NW., Room 5013, Washington, DC 20240 (Phone: 202-208-1378, e-mail: Sarah Bobbeios.doi.gov), or visit the U.S. Coral Reef Task Force Web site at http://www.coralreef.gov).

SUPPLEMENTARY INFORMATION: Established by Presidential Executive Order 13089 in 1998, the U.S. Coral Reef Task Force mission is to lead, coordinate, and strengthen U.S. government actions to better preserve and protect coral reef ecosystems. Co-chaired by the Departments of Commerce and Interior, Task Force members include leaders of 12 Federal agencies, seven U.S. States and territories, and three freely associated States. For more information about the meeting, registering, and submitting public comment go to http://www.coralreefgov.

Dated: October 19, 2009.
Donna Rivelli,
Deputy Associate Assistant Administrator for Management and CFO/CAO, Ocean Services and Coastal Zone Management.

[FR Doc. E9-25511 Filed 10-23-09; 8:45 am]

BILLING CODE 3510-08-M